DEPARTMENT OF THE INTERIOR

National Park Service

[NPS-WASO-NAGPRA-NPS0027190; PPWOCRADN0-PCU00RP14.R50000]

Notice of Inventory Completion: Oregon Parks and Recreation Department, Salem, OR, and Oregon State University, Department of Anthropology, Corvallis, OR

AGENCY: National Park Service, Interior.

ACTION: Notice.

SUMMARY: The Oregon State University, Department of Anthropology and the Oregon Parks and Recreation Department (OPRD) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Oregon Parks and Recreation Department. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Oregon Parks and Recreation Department at the address in this notice by March 11, 2019.

ADDRESSES: Nancy Nelson, Oregon Parks and Recreation Department Archaeologist, 725 Summer Street NE, Suite C, Salem, OR 97301, telephone (503) 986-0578.

SUPPLEMENTARY INFORMATION: Notice is here given in accordance with the Native American Graves Protection and Repatriation Act (NAGPRA), 25 U.S.C. 3003, of the completion of an inventory of human remains and associated funerary objects under the control of the Oregon Parks and Recreation Department, Salem, OR, and in the custody of the Oregon State University, Department of Anthropology, Corvallis, OR. The human remains and associated funerary objects were removed from Oceanside Beach State Recreation Site (35TI47) in Tillamook County, OR.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Oregon Parks and Recreation Department and Oregon State University, Department of Anthropology professional staff in consultation with representatives of the Confederated Tribes of Siletz Indians of Oregon (previously listed as the Confederated Tribes of the Siletz Reservation) and the Confederated Tribes of the Grand Ronde Community of Oregon, hereafter referred to as “The Consulted Tribes.”

The Burns Paiute Tribe (previously listed as the Burns Paiute Tribe of the Burns Paiute Indian Colony of Oregon); Confederated Tribes of the Coos, Lower Umpqua and Siuslaw Indians; Confederated Tribes of the Umatilla Indian Reservation (previously listed as the Confederated Tribes of the Umatilla Reservation, Oregon); Confederated Tribes of the Warm Springs Reservation of Oregon; Coquille Indian Tribe (previously listed as the Coquille Tribe of Oregon); Cow Creek Band of Umpqua Tribe of Indians (previously listed as the Cow Creek Band of Umpqua Indians of Oregon); and the Klamath Tribes were notified, but did not participate in consultation. Hereafter, these tribes are referred to as “The Invited Tribes.”

History and Description of the Remains

In 1977, human remains representing, at minimum, three individuals were removed from 35TI47, Oceanside Beach State Recreation Site in Tillamook County, OR, by Oregon State University. The excavation took place at the request of the OPRD to assess the impacts of proposed park improvements. The 20 associated funerary objects are ten olivella shell beads; one antler or bone wedge; one blade; one modified bone; one non-human bone fragment; one unidentified lithic; three projectile points; one camas bulb; and one lot of bagged flakes, glass, shell, ecofacts, lithics, and unidentified botanical remains.

Ethnographic records indicate that Oceanside, located on the sand spit that defines the southern edge of Tillamook Bay, was occupied by the Tillamook. Based on geographical, ethnographic, linguistic, kinship, oral historical and historical evidence, a relationship of shared group identity between the Confederated Tribes of Siletz Indians of Oregon (previously listed as the Confederated Tribes of the Siletz Reservation) and the Tillamook at Oceanside can be reasonably traced historically. Based on geographical, ethnographic, linguistic and historical evidence, a relationship of shared group identity between the Confederated Tribes of the Grand Ronde Community of Oregon and the Tillamook at Oceanside also can be reasonably traced historically.

Determinations Made by the Oregon Parks and Recreation Department

Officials of the Oregon Parks and Recreation Department have determined that:

• Pursuant to 25 U.S.C. 3001(9), the human remains described in this notice represent the physical remains of three individuals of Native American ancestry.

• Pursuant to 25 U.S.C. 3001(3)(A), the 20 objects described in this notice are reasonably believed to have been placed with or near individual human remains at the time of death or later as part of the death rite or ceremony.

• Pursuant to 25 U.S.C. 3001(2), there is a relationship of shared group identity that can be reasonably traced between the Native American human remains and associated funerary objects and The Consulted Tribes.

Additional Requestors and Disposition

Lineal descendants or representatives of any Indian Tribe or Native Hawaiian organization not identified in this notice that wish to request transfer of control of these human remains and associated funerary objects should submit a written request with information in support of the request to Nancy Nelson, Oregon Parks and Recreation Department Archaeologist, 725 Summer Street NE, Suite C, Salem, OR 97301, telephone (503) 986-0578, by March 11, 2019. After that date, if no additional requestors have come forward, transfer of control of the human remains and associated funerary objects to The Consulted Tribes may proceed.

The Oregon Parks and Recreation Department is responsible for notifying The Consulted Tribes and the Invited Tribes that this notice has been published.

Dated: December 17, 2018.
Melanie O'Brien,
Manager, National NAGPRA Program.

[FR Doc. 2019-01624 Filed 2-7-19; 8:45 am]

BILLING CODE 4312-52-P